DEPARTMENT OF THE TREASURY

Internal Revenue Service

26 CFR Part 1

[REG-106595-22]

RIN 1545-BQ83

Substantiation Requirements and Qualified Nonpersonal Use Vehicles; Correction

AGENCY: Internal Revenue Service (IRS), Treasury.

ACTION: Notice of proposed rulemaking; correction.

SUMMARY: This document corrects a notice of proposed rulemaking (REG-106595-22), published in the Federal Register on December 3, 2024, containing proposed regulations relating to the definition of qualified nonpersonal use vehicles.

DATES: Written or electronic comments and requests for a public hearing must be received by March 3, 2025.

ADDRESSES: Commenters are strongly encouraged to submit public comments electronically via the Federal eRulemaking Portal at http://www.regulations.gov (indicate IRS and REG-106595-22) by following the online instructions for submitting comments. Requests for a public hearing must be submitted as prescribed in the “Comments and Requests for a Public Hearing” section. Once submitted to the Federal Rulemaking Portal, comments cannot be edited or withdrawn. The Department of the Treasury (Treasury Department) and the IRS will publish for public availability any comment submitted electronically or on paper, to the IRS's public docket. Send paper submissions to CC:PA:01:PR (REG-106595-22), Room 5203, Internal Revenue Service, P.O. Box 7604, Ben Franklin Station, Washington, DC 20044.

FOR FURTHER INFORMATION CONTACT: Concerning the proposed regulations, Stephanie Caden at (202) 317-4774; concerning submissions of comments or requests for a public hearing, the Publications and Regulations section by email at publichearings@irs.gov (preferred) or (202) 317-6901 (not toll-free numbers).

SUPPLEMENTARY INFORMATION:

Background

The notice of proposed rulemaking (REG-106595-22) that is subject to this correction contains proposed regulations issued under the authority granted to the Secretary of the Treasury or her delegate (Secretary) by sections 274(p) and 132(o) of the Internal Revenue Code (Code) that would amend the Income Tax Regulations (26 CFR part 1) under sections 274(i) and 132(d) related to qualified nonpersonal use vehicles.

Correction of Publication

Accordingly, FR Doc. 2024-28040 (REG-106595-22), appearing on page 95727 in the Federal Register on Tuesday, December 3, 2024, is corrected on page 95727, in the second column, under the caption FOR FURTHER INFORMATION CONTACT, the second line is corrected to read “Stephanie Caden at (202) 317-4774;”.

Aron L. Cosby,
Federal Register Liaison, Publications and Regulations Branch, Legal Processing Division, Associate Chief Counsel (Procedure and Administration).

[FR Doc. 2024-30280 Filed 12-20-24; 8:45 am]

BILLING CODE 4830-01-P